DEPARTMENT OF TRANSPORTATION

Surface Transportation Board

[Docket No. FD 34075]

Six County Association of Governments—Construction and Operation Exemption—A Rail Line Between Levan and Salina, Utah

AGENCY: Surface Transportation Board, DOT.

ACTION: Notice of construction and operation exemption.

SUMMARY: The Board is granting an exemption under 49 U.S.C. 10502 from the prior approval requirements of 49 U.S.C. 10901 for Six County Association of Governments (Six County) to construct and operate a new line of railroad between Salina, Utah, and a connection with an existing line of the Union Pacific Railroad Company near Juab, Utah. The rail line would provide an alternative rail service option to local industries, particularly the Southern Utah Fuel Company coal mine located about 30 miles northeast of Salina. This exemption is subject to environmental mitigation conditions.

DATES: The exemption will be effective on October 3, 2015; petitions for reconsideration must be filed by September 23, 2015.

ADDRESSES: An original and 10 copies of all pleadings, referring to Docket No. FD 34075 must be filed with the Surface Transportation Board, 395 E Street SW., Washington DC 20423-0001. In addition, one copy of each filing in this proceeding must be served on petitioner's representative: Sandra L. Brown, Thompson Hine LLP, 1919 M Street NW., Suite 700, Washington, DC 20036-1600.

FOR FURTHER INFORMATION CONTACT: Nathaniel Bawcombe, (202) 245-0376. (Assistance for the hearing impaired is available through the Federal Information Relay Service (FIRS) at: (800) 877-8339). Copies of written filings will be available for viewing and self-copying at the Board's Public Docket Room, Room 131, and will be posted to the Board's Web site.

SUPPLEMENTARY INFORMATION: Additional information is contained in the Board's decision. Board decisions and notices are available on our Web site at “WWW.STB.DOT.GOV.”

By the Board, Chairman Elliott, Vice Chairman Begeman, and Commissioner Miller.
Decided: August 31, 2015.
Kenyatta Clay,
Clearance Clerk.

[FR Doc. 2015-22537 Filed 9-4-15; 8:45 am]

BILLING CODE 4915-01-P